SMALL BUSINESS ADMINISTRATION

[Disaster Declaration #20613 and #20614; CHEYENNE RIVER SIOUX TRIBE Disaster Number SD-20004]

Presidential Declaration of a Major Disaster for the Cheyenne River Sioux Tribe

AGENCY: U.S. Small Business Administration.

ACTION: Notice.

SUMMARY: This is a Notice of the Presidential declaration of a major disaster for the Cheyenne River Sioux Tribe (FEMA-4842-DR), dated November 1, 2024.

Incident: Severe Storm, Straight-line Winds, and Flooding.

DATES: Issued on November 1, 2024.

Incident Period: July 13, 2024 through July 14, 2024.

Physical Loan Application Deadline Date: December 31, 2024.

Economic Injury (EIDL) Loan Application Deadline Date: August 1, 2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: Notice is hereby given that as a result of the President's major disaster declaration on November 1, 2024, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Area (Physical Damage and Economic Injury Loans): Cheyenne River Sioux Tribe.

Contiguous Counties (Economic Injury Loans Only):

South Dakota: Corson, Dewey, Haakon, Meade, Pennington, Perkins, Potter, Stanley, Sully, Walworth, Ziebach.

The Interest Rates are:

| Percent
For Physical Damage:
Homeowners with Credit Available Elsewhere | 5.375
Homeowners without Credit Available Elsewhere | 2.688
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 20613B and for economic injury is 206140.

(Catalog of Federal Domestic Assistance Number 59008)

Alejandro Contreras,
Acting Deputy Associate Administrator, Office of Disaster Recovery & Resilience.

[FR Doc. 2024-26029 Filed 11-7-24; 8:45 am]

BILLING CODE 8026-09-P